DEPARTMENT OF THE INTERIOR

Bureau of Reclamation

Notice to Extend the Public Comment Period for the Draft Report Assessing Rural Water Activities and Related Programs

AGENCY: Bureau of Reclamation, Interior.

ACTION: Notice of extension.

SUMMARY: The Bureau of Reclamation is extending the public comment period for the Draft Report Assessing Rural Water Activities to September 10, 2012. The notice to solicit public comments was published in the Federal Register on June 15, 2012 (77 FR 36001). The public comment period was originally to end on August 14, 2012.

DATES: Submit comments on the Draft Report by 5:00 p.m., September 10, 2012.

ADDRESSES: Send written comments to James Hess, Bureau of Reclamation, 1849 C Street NW., MC: 96-42000, Washington, DC 20240; or by email to jhess@usbr.gov. The draft report is available for public review at www.usbr.gov/ruralwater.

FOR FURTHER INFORMATION CONTACT: James Hess at (202) 513-0543 about the report, or Christopher Perry at (303) 445-2887 about the prioritization criteria.

SUPPLEMENTARY INFORMATION: In response to technical issues that were identified after the notice of availability was sent to the Federal Register, Reclamation is extending the close of the public comment period.

Public Disclosure

Before including your address, phone number, email address, or other personal identifying information in your comment, you should be aware that your entire comment—including your personal identifying information—maybe made publicly available at any time. While you can ask us in your comment to withhold your personal identifying information from public review, we cannot guarantee that we will be able to do so.

Dated: August 2, 2012.
David Murillo,
Deputy Commissioner, Operations.

[FR Doc. 2012-19424 Filed 8-7-12; 8:45 am]

BILLING CODE 4310-MN-P